DEPARTMENT OF STATE

[Public Notice 7402]

The “100,000 Strong” Initiative Federal Advisory Committee: Notice of the Inaugural Meeting of the Committee

The Bureau of East Asian and Pacific Affairs of the Department of State hereby gives notice of a public meeting of the “100,000 Strong” Initiative Federal Advisory Committee. This is the inaugural meeting of the Advisory Committee. The “100,000 Strong” Federal Advisory Committee, composed of prominent China experts and leaders in business, academic and non-profit organizations, will serve a critical advisory role in achieving the Administration's goal, announced in May 2010, of seeing 100,000 Americans study in China by 2014.

Time and Place: The meeting will take place on May 10, 2011, from 10:30 a.m. to 12:30 p.m. EDT at the Department of State, Washington, DC. Participants should arrive by 10 a.m. at 2201 C Street NW., C Street Lobby, and will be directed to the meeting room.

Public Participation: This Advisory Committee meeting is open to the public, subject to the capacity of the meeting room. Access to the building is controlled; persons wishing to attend should contact Lee Anne Shaffer of the Department of State's Bureau of East Asian and Pacific Affairs at ShafferL@state.gov and provide their name, affiliation, date of birth, country of citizenship, government identification type and number, e-mail address, and mailing address no later than May 5, 2011. Data from the public is requested pursuant to Public Law 99-399 (Omnibus Act of 1986) as amended; Public Law 107-56 (USA PATRIOT ACT): and Executive Order 13356. The primary purpose for collecting this information is to validate the identity of individuals who enter Department facilities. Please see the Privacy Impact Assessment for VACS-D at http://www.state.gov/documents/organization/100305.pdf for additional information. Persons who cannot participate in the meeting but who wish to comment are welcome to do so by e-mail to Lee Anne Shaffer at ShafferL@state.gov. A member of the public needing reasonable accommodation should advise the contact person identified above not later than May 3, 2011. Requests made after that date will be considered, but might not be able to be fulfilled. Members of the public who are unable to attend the Advisory Committee meeting in person but would like to participate by teleconferencing can contact Lee Anne Shaffer at 202-647-7059 to receive the conference call-in number and the relevant information.

Dated: April 21, 2011.
Lee Anne Shaffer,
Foreign Affairs Officer, Department of State.

[FR Doc. 2011-10208 Filed 4-26-11; 8:45 am]

BILLING CODE P